DEPARTMENT OF COMMERCE

International Trade Administration

[C-533-929]

Ceramic Tile From India: Initiation of Countervailing Duty Investigation

AGENCY: Enforcement and Compliance, International Trade Administration, Department of Commerce.

DATES: Applicable May 9, 2024.

FOR FURTHER INFORMATION CONTACT: Greg Taushani, AD/CVD Operations, Office II, Enforcement and Compliance, International Trade Administration, U.S. Department of Commerce, 1401 Constitution Avenue NW, Washington, DC 20230; telephone: (202) 482-1012.

SUPPLEMENTARY INFORMATION:

The Petition

On April 19, 2024, the U.S. Department of Commerce (Commerce) received a countervailing duty (CVD) petition concerning imports of ceramic tile from India filed in proper form on behalf of the Coalition for Fair Trade in Ceramic Tile (the petitioner).¹ The CVD petition was accompanied by an antidumping duty (AD) petition concerning imports of ceramic tile from India.²

¹ See Petitioner's Letter, “Petition for the Imposition of Antidumping and Countervailing Duties: Ceramic Tile from India,” dated April 19, 2024 (Petition). The members of the Coalition for Fair Trade in Ceramic Tile are Crossville, Inc.; Dal-Tile Corporation; Del Conca USA, Inc.; Wonder Porcelain; Landmark Ceramics—UST, Inc.; Florim USA; Florida Tile; Portobello America Manufacturing LLC; and StonePeak Ceramics Inc.

² Id.

Between April 23 and May 1, 2024, Commerce requested information pertaining to certain aspects of the Petition in supplemental questionnaires.³ Between April 26 and May 3, 2024, the petitioner timely responded to Commerce's requests.⁴

³ See Commerce's Letters, “Petition for the Imposition of Antidumping and Countervailing Duties on Imports of Ceramic Tile from India: Supplemental Questions,” dated April 23, 2024 (General Issues Questionnaire); and “Petition for the Imposition of Countervailing Duties on Imports of Ceramic Tile from India: Supplemental Questions,” dated April 25, 2024; see also Memoranda, “Phone Call with Counsel to Petitioner,” dated April 30, 2024 (April 30 Memorandum) and “Phone Call with Counsel to Petitioner,” dated May 1, 2024 (May 1 Memorandum).

⁴ See Petitioner's Letters, “Ceramic Tile From the Republic of India: Petitioner's First Supplemental General Issues Questionnaire Response,” dated April 26, 2024 (First General Issues Supplement); “Ceramic Tile From the Republic of India: Petitioner's First Countervailing Duty Petition Supplemental Questionnaire Response,” dated May 1, 2024; “Petitioner's Second Supplemental Questionnaire Response Concerning General Issues and AD Petition,” dated May 2, 2024 (Second Petition Supplement); and “Petitioner's Second Supplemental Questionnaire Response Concerning General Issues and AD Petition; Second Set of Responses,” dated May 3, 2024 (Third Petition Supplement).

In accordance with section 702(b)(1) of the Tariff Act of 1930, as amended (the Act), the petitioner alleges that the Government of India (GOI) is providing countervailable subsidies, within the meaning of sections 701 and 771(5) of the Act, to producers of ceramic tile in India, and that such imports are materially injuring, or threatening material injury to, the domestic industry producing ceramic tile in the United States. Consistent with section 702(b)(1) of the Act and 19 CFR 351.202(b), for those alleged programs on which we are initiating a CVD investigation, the Petition is supported by information reasonably available to the petitioner.

Commerce finds that the petitioner filed the Petition on behalf of the domestic industry because the petitioner is an interested party, as defined in section 771(9)(F) of the Act.⁵ Commerce also finds that the petitioner demonstrated sufficient industry support with respect to the initiation of the requested CVD investigation.⁶

⁵ The members of the petitioning coalition are interested parties under section 771(9)(C) of the Act.

⁶ See, infra, section on “Determination of Industry Support for the Petition.”

Period of Investigation

Because the Petition was filed on April 19, 2024, pursuant to 19 CFR 351.204(b)(2), the period of investigation (POI) is January 1, 2023, through December 31, 2023.

Scope of the Investigation

The product covered by this investigation is ceramic tile from India. For a full description of the scope of this investigation, see the appendix to this notice.

Comments on Scope of the Investigation

Between April 23 and May 1, 2024, Commerce requested information and clarification from the petitioner regarding the proposed scope to ensure that the scope language in the Petition is an accurate reflection of the products for which the domestic industry is seeking relief.⁷ Between April 26 and May 3, 2024, the petitioner provided clarifications and revised the scope.⁸ The description of merchandise covered by this investigation, as described in the appendix to this notice, reflects these clarifications.

⁷ See General Issues Questionnaire; see also April 30 Memorandum; and May 1 Memorandum.

⁸ See First General Issues Supplement at 1-2 and Supplemental Exhibit I-66; see also Second Petition Supplement at 2-3 and Supplemental Exhibit I-70; and Third Petition Supplement at 4.

As discussed in the Preamble to Commerce's regulations, we are setting aside a period for interested parties to raise issues regarding product coverage (i.e., scope).⁹ Commerce will consider all scope comments received from interested parties and, if necessary, will consult with interested parties prior to the issuance of the preliminary determination. If scope comments include factual information, all such factual information should be limited to public information.¹⁰ To facilitate preparation of its questionnaires, Commerce requests that scope comments be submitted by 5:00 p.m. Eastern Time (ET) on May 29, 2024, which is 20 calendar days from the signature date of this notice.¹¹ Any rebuttal comments, which may include factual information, and should also be limited to public information, must be filed by 5:00 p.m. ET on June 10, 2024, which is the next business day after 10 calendar days from the initial comment deadline.¹²

⁹ See Antidumping Duties; Countervailing Duties, 62 FR 27296, 27323 (May 19, 1997) (Preamble); see also 19 CFR 351.312.

¹⁰ See 19 CFR 351.102(b)(21) (defining “factual information”).

¹¹ See 19 CFR 351.303(b)(1).

¹² The deadline for rebuttal comments falls on June 8, 2024, which is a Saturday. In accordance with 19 CFR 351.303(b)(1), Commerce will accept rebuttal comments filed by 5:00 p.m. ET on June 10, 2024. Id. (“For both electronically filed and manually filed documents, if the applicable due date falls on a non-business day, the Secretary will accept documents that are filed on the next business day.”).

Commerce requests that any factual information that the parties consider relevant to the scope of the investigation be submitted during that period. However, if a party subsequently finds that additional factual information pertaining to the scope of the investigation may be relevant, the party must contact Commerce and request permission to submit the additional information. All scope comments must be filed simultaneously on the records of the concurrent AD and CVD investigations.

Filing Requirements

All submissions to Commerce must be filed electronically via Enforcement and Compliance's Antidumping Duty and Countervailing Duty Centralized Electronic Service System (ACCESS), unless an exception applies.¹³ An electronically filed document must be received successfully in its entirety by the time and date it is due.

¹³ See Antidumping and Countervailing Duty Proceedings: Electronic Filing Procedures; Administrative Protective Order Procedures, 76 FR 39263 (July 6, 2011); see also Enforcement and Compliance; Change of Electronic Filing System Name, 79 FR 69046 (November 20, 2014), for details of Commerce's electronic filing requirements, effective August 5, 2011. Information on using ACCESS can be found at: https://access.trade.gov/help.aspx and a handbook can be found at: https://access.trade.gov/help/Handbook_on_Electronic_Filing_Procedures.pdf.

Consultations

Pursuant to sections 702(b)(4)(A)(i) and (ii) of the Act, Commerce notified the GOI of the receipt of the Petition and provided an opportunity for consultations with respect to the Petition.¹⁴ Commerce held consultations with the GOI on April 30, 2024.¹⁵

¹⁴ See Commerce's Letter, “Invitation for Consultation to Discuss the Countervailing Duty Petition on Ceramic Tile from India,” dated April 22, 2024.

¹⁵ See Memorandum, “Consultations with Officials with the Government of India,” dated May 1, 2024.

Determination of Industry Support for the Petition

Section 702(b)(1) of the Act requires that a petition be filed on behalf of the domestic industry. Section 702(c)(4)(A) of the Act provides that a petition meets this requirement if the domestic producers or workers who support the petition account for: (i) at least 25 percent of the total production of the domestic like product; and (ii) more than 50 percent of the production of the domestic like product produced by that portion of the industry expressing support for, or opposition to, the petition. Moreover, section 702(c)(4)(D) of the Act provides that, if the petition does not establish support of domestic producers or workers accounting for more than 50 percent of the total production of the domestic like product, Commerce shall: (i) poll the industry or rely on other information in order to determine if there is support for the petition, as required by subparagraph (A); or (ii) determine industry support using a statistically valid sampling method to poll the “industry.”

Section 771(4)(A) of the Act defines the “industry” as the producers as a whole of a domestic like product. Thus, to determine whether a petition has the requisite industry support, the statute directs Commerce to look to producers and workers who produce the domestic like product. The U.S. International Trade Commission (ITC), which is responsible for determining whether “the domestic industry” has been injured, must also determine what constitutes a domestic like product in order to define the industry. While both Commerce and the ITC must apply the same statutory definition regarding the domestic like product,¹⁶ they do so for different purposes and pursuant to a separate and distinct authority. In addition, Commerce's determination is subject to limitations of time and information. Although this may result in different definitions of the like product, such differences do not render the decision of either agency contrary to law.¹⁷

¹⁶ See section 771(10) of the Act.

¹⁷ See USEC, Inc. v. United States, 132 F. Supp. 2d 1, 8 (CIT 2001) (citing Algoma Steel Corp., Ltd. v. United States, 688 F. Supp. 639, 644 (CIT 1988), aff'd 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, the petitioner does not offer a definition of the domestic like product distinct from the scope of the investigation.¹⁸ Based on our analysis of the information submitted on the record, we have determined that ceramic tile, as defined in the scope, constitutes a single domestic like product, and we have analyzed industry support in terms of that domestic like product.¹⁹

¹⁸ See Appendix to this Notice—Scope of the Investigation; see also Petition at Volume I (pages 7-15 and Exhibits I-14 through I-21); First General Issues Supplement at 1-4 and Supplemental Exhibits I-66 and I-67 (containing Ceramic Tile from China, Inv. Nos. 701-TA-621 and 731-TA-1447 (Preliminary), USITC Pub. 4898 (June 2019) and Ceramic Tile from China, Inv. Nos. 701-TA-621 and 731-TA-1447 (Final), USITC Pub. 5053 (May 2020)); Second Petition Supplement at 2-4 and Supplemental Exhibit I-70; and Third Petition Supplement at 4.

¹⁹ For a discussion of the domestic like product analysis as applied to this case and information regarding industry support, see Countervailing Duty Investigation Initiation Checklist: Ceramic Tile from India, dated concurrently with, and hereby adopted by, this notice (India CVD Initiation Checklist), at Attachment II, Analysis of Industry Support for the Antidumping and Countervailing Duty Petitions Covering Ceramic Tile from India (Attachment II). This checklist is on file electronically via ACCESS.

In determining whether the petitioner has standing under section 702(c)(4)(A) of the Act, we considered the industry support data contained in the Petition with reference to the domestic like product as defined in the “Scope of the Investigation,” in the appendix to this notice. To establish industry support, the petitioner provided its own production of the domestic like product in 2023.²⁰ To establish total production for the U.S. ceramic tile industry, the petitioner provided information from Ceramic World Review, a publication for the ceramic tile industry.²¹ The information provided by the petitioner from Ceramic World Review reflects total production by the U.S. ceramic tile industry in 2023.²² The petitioner then compared its 2023 production to the 2023 production for the U.S. ceramic tile industry.²³ We relied on data provided by the petitioner for purposes of measuring industry support.²⁴

²⁰ See Petition at Volume I (pages 4-5 and Exhibits I-2 and I-5); see also First General Issues Supplement at 3 and Revised Exhibits I-2 and I-5. The petitioner also provided an industry support calculation using shipment data and argued that shipments are a reasonable proxy for production. See Petition at Volume I (pages 4-5 and Exhibits I-2, I-4, I-5, and I-6; see also First General Issues Supplement at 3 and Revised Exhibits I-2, I-4, I-5, and I-6. However, because the petitioner provided reasonably available information on total U.S. production of the domestic like product in 2023, we have relied on the production data and corresponding industry support calculation provided by the petitioner as the basis for determining industry support.

²¹ See Petition at Volume I (page 4 and Exhibits I-2 and Exhibit I-52); see also First General Issues Supplement at 2-3 and Revised Exhibit I-2.

²² See Petition at Volume I (page 4 and Exhibits I-2 and Exhibit I-52); see also First General Issues Supplement at 2-3 and Revised Exhibit I-2.

²³ See Petition at Volume I (Exhibit I-2); see also First General Issues Supplement at 2-3 and Revised Exhibit I-2.

²⁴ See Petition at Volume I (pages 3-5 and Exhibits I-2, I-5, and I-52); see also First General Issues Supplement at 2-3 and Revised Exhibits I-2, I-3, 1-5, and I-6. For further discussion, see Attachment II of the India CVD Initiation Checklist.

Our review of the data provided in the Petition, First General Issues Supplement, the Second Petition Supplement, and other information readily available to Commerce indicates that the petitioner has established industry support for the Petition.²⁵ First, the Petition established support from domestic producers (or workers) accounting for more than 50 percent of the total production of the domestic like product and, as such, Commerce is not required to take further action in order to evaluate industry support (e.g., polling).²⁶ Second, the domestic producers (or workers) have met the statutory criteria for industry support under section 702(c)(4)(A)(i) of the Act because the domestic producers (or workers) who support the Petition account for at least 25 percent of the total production of the domestic like product.²⁷ Finally, the domestic producers (or workers) have met the statutory criteria for industry support under section 702(c)(4)(A)(ii) of the Act because the domestic producers (or workers) who support the Petition account for more than 50 percent of the production of the domestic like product produced by that portion of the industry expressing support for, or opposition to, the Petition.²⁸ Accordingly, Commerce determines that the Petition was filed on behalf of the domestic industry within the meaning of section 702(b)(1) of the Act.²⁹

²⁵ See Petition at Volume I (page 3-5 and Exhibits I-1 through I-6 and I-52); see also First General Issues Supplement at 2-4, Revised Exhibits I-2, I-5, I-6, and Supplemental Exhibit I-67; and Second Petition Supplement at 4. For further discussion, see Attachment II of the India CVD Initiation Checklist.

²⁶ See Attachment II of the India CVD Initiation Checklist; see also section 702(c)(4)(D) of the Act.

²⁷ See Attachment II of the India CVD Initiation Checklist.

²⁸ Id.

²⁹ Id.

Injury Test

Because India is a “Subsidies Agreement Country” within the meaning of section 701(b) of the Act, section 701(a)(2) of the Act applies to this investigation. Accordingly, the ITC must determine whether imports of the subject merchandise from India materially injure, or threaten material injury to, a U.S. industry.

Allegations and Evidence of Material Injury and Causation

The petitioner alleges that imports of the subject merchandise are benefiting from countervailable subsidies and that such imports are causing, or threaten to cause, material injury to the U.S. industry producing the domestic like product. In addition, the petitioner alleges that subject imports exceed the negligibility threshold provided for under section 771(24)(A) of the Act.³⁰

³⁰ See First General Issues Supplement at 4 and Supplemental Exhibit I-68.

The petitioner contends that the industry's injured condition is illustrated by a significant and increasing volume of subject imports; increased subject market share; adverse impact on production, capacity utilization, and U.S. shipments; underselling and price depression and/or suppression; lost sales and revenues; adverse impact on profitability and returns on investments; cancellation, postponement, or rejection of expansion projects and reduced spending on research and development; and increase in inventories.³¹ We assessed the allegations and supporting evidence regarding material injury, threat of material injury, causation, as well as negligibility, and we have determined that these allegations are properly supported by adequate evidence, and meet the statutory requirements for initiation.³²

³¹ Id.; see also Petition at Volume I (pages 17-57 and Exhibits I-7, I-8, I-10, I-11, I-13, I-23, I-25 through I-31, I-33 through I-37, I-39, I-40 through I-52, I-54, I-55, I-57 through I-60, and I-63 through I-65).

³² See India CVD Initiation Checklist at Attachment III, Analysis of Allegations and Evidence of Material Injury and Causation for the Antidumping and Countervailing Duty Petitions Covering Ceramic Tile from India.

Initiation of CVD Investigation

Based upon the examination of the Petition and supplemental responses, we find that they meet the requirements of section 702 of the Act. Therefore, we are initiating a CVD investigation to determine whether imports of ceramic tile from India benefit from countervailable subsidies conferred by the GOI. Based on our review of the Petition, we find that there is sufficient information to initiate a CVD investigation on 58 of 65 programs alleged by the petitioner. For a full discussion of the basis for our decision to initiate an investigation of each program, see the India CVD Initiation Checklist. A public version of the initiation checklist for this investigation is available on ACCESS. In accordance with section 703(b)(1) of the Act and 19 CFR 351.205(b)(1), unless postponed, we will make our preliminary determination no later than 65 days after the date of this initiation.

Respondent Selection

In the Petition, the petitioner identified 100 companies in India as producers/exporters of ceramic tile.³³ Following standard practice in CVD investigations, in the event Commerce determines that the number of exporters or producers is large such that Commerce cannot individually examine each company based on its resources, Commerce intends to select mandatory respondents based on U.S. Customs and Border Protection (CBP) entry data for U.S. imports under the appropriate Harmonized Tariff Schedule of the United States (HTSUS) subheading(s) listed in the “Scope of the Investigation,” in the appendix.

³³ See Petition at Volume I (page 16 and Exhibit I-22); see also First General Issues Supplement at 1 and Revised Exhibit I-22.

On May 7, 2024, Commerce released CBP data on imports of ceramic tile from India under administrative protective order (APO) to all parties with access to information protected by APO and indicated that interested parties wishing to comment on CBP data and/or respondent selection must do so within three business days of the publication date of the notice of initiation of this investigation.³⁴ Comments must be filed electronically using ACCESS. An electronically-filed document must be received successfully in its entirety via ACCESS by 5:00 p.m. ET on the specified deadline. Commerce will not accept rebuttal comments regarding the CBP data or respondent selection.

³⁴ See Memorandum, “Release of U.S. Customs and Border Protection Data,” dated May 7, 2024.

Interested parties must submit applications for disclosure under APO in accordance with 19 CFR 351.305(b). Instructions for filing such applications may be found on Commerce's website at https://www.trade.gov/administrative-protective-orders.

Distribution of Copies of the Petition

In accordance with section 702(b)(4)(A) of the Act and 19 CFR 351.202(f), a copy of the public version of the Petition has been provided to the GOI via ACCESS. To the extent practicable, we will attempt to provide a copy of the public version of the Petition to each exporter named in the Petition, as provided under 19 CFR 351.203(c)(2).

ITC Notification

Commerce will notify the ITC of our initiation, as required by section 702(d) of the Act.

Preliminary Determination by the ITC

The ITC will preliminarily determine, within 45 days after the date on which the Petition was filed, whether there is a reasonable indication that imports of ceramic tile from India are materially injuring, or threatening material injury to, a U.S. industry.³⁵ A negative ITC determination will result in the investigation being terminated.³⁶ Otherwise, this CVD investigation will proceed according to statutory and regulatory time limits.

³⁵ See section 703(a)(1) of the Act.

³⁶ Id.

Submission of Factual Information

Factual information is defined in 19 CFR 351.102(b)(21) as: (i) evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). Section 351.301(b) of Commerce's regulations requires any party, when submitting factual information, to specify under which subsection of 19 CFR 351.102(b)(21) the information is being submitted ³⁷ and, if the information is submitted to rebut, clarify, or correct factual information already on the record, to provide an explanation identifying the information already on the record that the factual information seeks to rebut, clarify, or correct.³⁸ Time limits for the submission of factual information are addressed in 19 CFR 351.301, which provides specific time limits based on the type of factual information being submitted. Interested parties should review the regulations prior to submitting factual information in this investigation.

³⁷ See 19 CFR 351.301(b).

³⁸ See 19 CFR 351.301(b)(2).

Extensions of Time Limits

Parties may request an extension of time limits before the expiration of a time limit established under 19 CFR 351.301, or as otherwise specified by Commerce. In general, an extension request will be considered untimely if it is filed after the expiration of the time limit established under 19 CFR 351.301, or as otherwise specified by Commerce.³⁹ For submissions that are due from multiple parties simultaneously, an extension request will be considered untimely if it is filed after 10:00 a.m. ET on the due date. Under certain circumstances, Commerce may elect to specify a different time limit by which extension requests will be considered untimely for submissions which are due from multiple parties simultaneously. In such a case, Commerce will inform parties in a letter or memorandum of the deadline (including a specified time) by which extension requests must be filed to be considered timely. An extension request must be made in a separate, stand-alone submission; under limited circumstances we will grant untimely filed requests for the extension of time limits, where we determine, based on 19 CFR 351.302, that extraordinary circumstances exist. Parties should review Commerce's regulations concerning the extension of time limits and the Time Limits Final Rule prior to submitting factual information in this investigation.⁴⁰

³⁹ See 19 CFR 351.301; see also Extension of Time Limits; Final Rule, 78 FR 57790 (September 20, 2013) (Time Limits Final Rule), available at: https://www.gpo.gov/fdsys/pkg/FR-2013-09-20/html/2013-22853.htm.

⁴⁰ See 19 CFR 351.302; see also Time Limits Final Rule.

Certification Requirements

Any party submitting factual information in an AD or CVD proceeding must certify to the accuracy and completeness of that information.⁴¹ Parties must use the certification formats provided in 19 CFR 351.303(g).⁴² Commerce intends to reject factual submissions if the submitting party does not comply with the applicable certification requirements.

⁴¹ See section 782(b) of the Act.

⁴² See Certification of Factual Information to Import Administration During Antidumping and Countervailing Duty Proceedings, 78 FR 42678 (July 17, 2013) (Final Rule); see also frequently asked questions regarding the Final Rule, available at: https://enforcement.trade.gov/tlei/notices/factual_info_final_rule_FAQ_07172013.pdf.

Notification to Interested Parties

Interested parties must submit applications for disclosure under APO in accordance with 19 CFR 351.305. Parties wishing to participate in this investigation should ensure that they meet the requirements of 19 CFR 351.103(d) (e.g., by filing the required letters of appearance). Note that Commerce has amended certain of its requirements pertaining to the service of documents.⁴³

⁴³ See Administrative Protective Order, Service, and Other Procedures in Antidumping and Countervailing Duty Proceedings, 88 FR 67069 (September 29, 2023).

This notice is issued and published pursuant to sections 702 and 777(i) of the Act, and 19 CFR 351.203(c)(1).

Dated: May 9, 2024.
Ryan Majerus,
Deputy Assistant Secretary for Policy and Negotiations,performing the non-exclusive functions and duties of the Assistant Secretary for Enforcement and Compliance.

Appendix

Scope of the Investigation

The merchandise covered by this investigation is ceramic flooring tile, wall tile, paving tile, hearth tile, porcelain tile, mosaic tile, flags, decorative tile, finishing tile, and the like (hereinafter ceramic tile). Ceramic tiles are articles containing a mixture of minerals including clay (generally hydrous silicates of alumina or magnesium) that are fired so the raw materials are fused to produce a tile that is less than 3.2 cm in thickness, exclusive of decorative features. All ceramic tile is subject to the scope regardless of end use, surface area, and weight, regardless of whether the tile is glazed or unglazed, regardless of the water absorption coefficient by weight, regardless of the extent of vitrification, and regardless of whether or not the tile is on a backing. Subject merchandise includes ceramic tile “slabs” or “panels” (tiles that are larger than 1 meter² (11 ft²)).

Subject merchandise includes ceramic tile that undergoes minor processing in a third country prior to importation into the United States. Similarly, subject merchandise includes ceramic tile produced that undergoes minor processing after importation into the United States. Such minor processing includes, but is not limited to, one or more of the following: beveling, cutting, trimming, staining, painting, polishing, finishing, additional firing, affixing a decorative surface to the tile, or any other processing that would otherwise not remove the merchandise from the scope of the investigation if performed in the country of manufacture of the in-scope product.

Subject merchandise is currently classified in the Harmonized Tariff Schedule of the United States (HTSUS) under the following subheadings of heading 6907: 6907.21.1005, 6907.21.1011, 6907.21.1051, 6907.21.2000, 6907.21.3000, 6907.21.4000, 6907.21.9011, 6907.21.9051, 6907.22.1005, 6907.22.1011, 6907.22.1051, 6907.22.2000, 6907.22.3000, 6907.22.4000, 6907.22.9011, 6907.22.9051, 6907.23.1005, 6907.23.1011, 6907.23.1051, 6907.23.2000, 6907.23.3000, 6907.23.4000, 6907.23.9011, 6907.23.9051, 6907.30.1005, 6907.30.1011, 6907.30.1051, 6907.30.2000, 6907.30.3000, 6907.30.4000, 6907.30.9011, 6907.30.9051, 6907.40.1005, 6907.40.1011, 6907.40.1051, 6907.40.2000, 6907.40.3000, 6907.40.4000, 6907.40.9011, and 6907.40.9051. Subject merchandise may also enter under subheadings of headings 6913, 6914, and 6905: 6913.90.2000, 6914.10.8000, 6914.90.8000, 6905.10.0000, and 6905.90.0050. The HTSUS subheadings are provided for convenience and customs purposes only. The written description of the scope of the investigation is dispositive.

[FR Doc. 2024-10753 Filed 5-15-24; 8:45 am]

BILLING CODE 3510-DS-P